DEPARTMENT OF ENERGY

Federal Energy Regulatory Commission

[Docket No. GP94-2-011]

Columbia Gas Transmission Corporation; Notice of Refund Report

April 23, 2002.

Take notice that on March 22, 2002, Columbia Gas Transmission Corporation (Columbia) tendered for filing with the Federal Energy Regulatory Commission its Refund Report made to comply with the April 17, 1995 Settlement in Docket No. GP94-2, et al. as approved by the Commission on June 15, 1995.

Columbia states that on February 20, 2002, it made refunds, as billing credits or checks, in the amount of $308,553.40. The refunds represent deferred tax refunds received from Trailblazer Pipeline Company and Overthrust Pipeline Company. The refunds were made pursuant to Article VIII, Section E of the Settlement using the allocation percentages shown on Appendix G, Schedule 5 of the Settlement.

Any person desiring to protest said filing should file a protest with the Federal Energy Regulatory Commission, 888 First Street, NE., Washington, DC 20426, in accordance with Section 385.211 of the Commission's Rules and Regulations. All such protests must be filed on or before April 30, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-10439 Filed 4-26-02; 8:45 am]

BILLING CODE 6717-01-P